DEPARTMENT OF COMMERCE

National Oceanic and Atmospheric Administration

[I.D. 091404D]

Pacific Fishery Management Council; Public Meeting

AGENCY: National Marine Fisheries Service (NMFS), National Oceanic and Atmospheric Administration (NOAA), Commerce.

ACTION: Notice of public meeting.

SUMMARY: The Pacific Fishery Management Council (Council) will convene a meeting of the Ad Hoc Vessel Monitoring System (VMS) Committee, which is open to the public. The primary purpose of the meeting is to review the Council recommendations on expanding the VMS program for West Coast groundfish fisheries to additional fishery sectors and to develop recommendations for the November 2004 Council meeting.

DATES: The Ad Hoc VMS Committee will meet Thursday, October 7, 2004 beginning at 8:30 a.m. and continuing until business for the day is completed.

ADDRESSES: The meeting will be held at the Benson Hotel, 309 SW Broadway, Portland, OR 97205-3725; telephone: 503-228-2000.

Council address: Pacific Fishery Management Council, 7700 NE Ambassador Place, Suite 200, Portland, OR 97220-1384.

FOR FURTHER INFORMATION CONTACT: Mr. Mike Burner, Pacific Fishery Management Council Groundfish Staff Officer; telephone: 503-820-2280.

SUPPLEMENTARY INFORMATION: The Council approved and the National Marine Fisheries Service implemented a pilot VMS program which began on January 1, 2004 for the limited entry trawl and limited entry fixed gear groundfish fishery sectors. The committee needs to consider expanding the VMS program to ensure effective monitoring and enforcement of area closures in commercial and recreational groundfish fisheries. At the September 2004 Council meeting, the Council is scheduled to review a draft Environmental Assessment which builds on the existing program and consider adopting a range of program expansion alternatives for public review. The Ad Hoc VMS Committee will review the current VMS program, consider Council recommendations on expanding the program, and develop recommendations for the November 2004 Council meeting.

At the November 2004 Council meeting, it is anticipated the Council would be scheduled to review the comments of the advisory bodies and public and identify a preferred alternative for expansion of the current monitoring program.

Although non-emergency issues not contained in the meeting agenda may be discussed, those issues may not be the subject of formal action during this meeting. Action will be restricted to those issues specifically listed in this document and any issues arising after publication of this document that require emergency action under Section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at 503-820-2280 at least 5 days prior to the meeting date.

Dated: September 15, 2004.
Alan D. Risenhoover,
Acting Director, Office of Sustainable Fisheries, National Marine isheries Service.

[FR Doc. E4-2242 Filed 9-17-04; 8:45 am]

BILLING CODE 3510-22-S